Title 3—

The President

Proclamation 7557 of May 9, 2002

Mother's Day, 2002

By the President of the United States of America

A Proclamation

Mothers are central to the success of the American family. Their love, dedication, and wisdom touch countless lives every day in every community throughout our land. And their love and guidance of children help to develop healthy and spiritually sound families.

President John Quincy Adams once said, “All that I am my mother made me.” President Abraham Lincoln believed, “All that I am or hope to be I owe to my angel mother. I remember my mother's prayers and they have always followed me. They have clung to me all my life.” These statements are just as true for the millions of Americans who credit their mothers for helping to successfully shape their lives.

Millions of American mothers are at work in communities across the United States, improving the lives of their families and their neighbors through countless acts of thoughtful kindness. They energize, inspire, and effect change in homes, schools, governments, and businesses throughout our country. By their example, mothers teach their children that serving others is the greatest gift they can give.

Nearly 100 years ago, Anna Jarvis of Philadelphia helped establish the first official Mother's Day observance. Her campaign to organize such a holiday began as a remembrance of her late mother, who, in the aftermath of the Civil War, had tried to establish “Mother's Friendship Days” as a way to bring unity and reconciliation to our Nation. In 1910, West Virginia became the first State officially to observe Mother's Day. The idea caught on quickly; for just over a year later, nearly every State in the Union had officially recognized the day. In 1914, President Woodrow Wilson issued the first Mother's Day proclamation, stating that the observance serves as a “public expression of our love and reverence for the mothers of our country.”

On this special day and throughout the year, our mothers deserve our greatest respect and deepest appreciation for their love and sacrifice. I especially commend foster mothers for answering my call to service, volunteering their time and their hearts to aid children in need of a mother's love. To honor mothers, the Congress, by a joint resolution approved May 8, 1914, as amended (38 Stat. 770), has designated the second Sunday in May as “Mother's Day” and has requested the President to call for its appropriate observance, which, as the son of a fabulous mother, I am pleased and honored to do again this year.

NOW, THEREFORE, I, GEORGE W. BUSH, President of the United States of America, do hereby proclaim May 12, 2002, as Mother's Day. I encourage all Americans to express their love, respect, and gratitude to mothers everywhere for their remarkable contributions to their children, families, communities, and our Nation.

IN WITNESS WHEREOF, I have hereunto set my hand this ninth day of May, in the year of our Lord two thousand two, and of the Independence of the United States of America the two hundred and twenty-sixth.

B

[FR Doc. 02-12230

Filed 5-13-02; 8:45 am]

Billing code 3195-01-P